DEPARTMENT OF ENERGY

Federal Energy Regulatory Commission

Notice

May 28, 2003.

The following notice of meeting is published pursuant to section 3(A) of the Government in the Sunshine Act (Pub. L. 94-409), 5 U.S.C. 552B:

Agency Holding Meeting: Federal Energy Regulatory Commission.

Date and Time: June 4, 2003, 10 a.m.

Place: Room 2C, 888 First Street, NE., Washington, DC 20426.

Status: Open.

Matters to be Considered:

Agenda. * Note—Items listed on the agenda may be deleted without further notice.

Contact Person for More Information: Magalie R. Salas, Secretary, Telephone (202) 502-8400. For a recording listing items stricken from or added to the meeting, call (202) 502-8627.

This is a list of matters to be considered by the Commission. It does not include a listing of all papers relevant to the items on the agenda; however, all public documents may be examined in the reference and information center.

830th—Meeting June 4, 2003; Regular Meeting, 10 a.m.

Administrative Agenda

A-1.

Docket# AD02-1, 000, Agency Administrative Matters

A-2.

Docket# AD02-7, 000, Customer Matters, Reliability, Security and Market Operations

Markets, Tariffs and Rates—Electric

E-1.

Docket# ER01-3155, 003, New York Independent System Operator, Inc.

Other#s EL01-45, 011, Consolidated Edison Company of New York, Inc.

ER01-1385, 012, Consolidated Edison Company of New York, Inc.

E-2.

Omitted

E-3.

Omitted

E-4.

Docket# EL03-42, 000, Occidental Power Services, Inc. V. PJM Interconnection, L.L.C.

E-5.

Omitted

E-6.

Docket# EL01-118, 000, Investigation of Terms & Conditions of Public Utility Market-Based Rate Authorizations

Other#s EL01-118, 001, Investigation of Terms & Conditions of Public Utility Market-Based Rate Authorizations

E-7.

Omitted

E-8.

Docket# EL02-105, 001, UBS AG

Other#s EC02-91, 001, UBS AG

EC02-120, 001, Bank of America, N.A.

EL02-130, 001, Bank of America, N.A.

E-9.

Docket# ER03-727, 000, Midwest Independent Transmission System Operator, Inc.

E-10.

Docket# ER03-730, 000, Southern Company Services

E-11.

Docket# ER03-352, 001, GenWest, LLC

Other#s ER03-352, 000, GenWest, LLC

E-12.

Docket# ER03-568, 000, Phelps Dodge Energy Services, LLC

E-13.

Docket# ER03-738, 000, Allegheny Power System Operating Companies: Monongahela Power Company, Potomac Edison Company and West Penn Power Company, all d/b/a Allegheny Power; Atlantic City Electric Company; Delmarva Power & Light Company; Baltimore Gas and Electric Company; Jersey Central Power & Light Company; Metropolitan Edison Company; Pennsylvania Electric Company; PECO Energy Company; PPL Electric Utilities Corporation; Potomac Electric Power Company; Public Service Electric and Gas Company; Rockland Electric Company; And UGI Utilities, Inc.

E-14.

Omitted

E-15.

Docket# ER03-743, 000, Virginia Electric and Power Company

E-16.

Docket# ER03-753, 000, Entergy Services, Inc.

E-17.

Docket# ER03-694, 000, PJM Interconnection LLC

Other#s ER03-694, 001, PJM Interconnection LLC

E-18.

Docket# ER03-631, 000, ISO New England Inc.

Other#s ER03-631, 001, ISO New England Inc.

E-19.

Docket# ER02-913, 000, American Electric Power Service Corporation

Other#s ER02-913, 002, American Electric Power Service Corporation

E-20.

Omitted

E-21.

Docket# EL03-31, 000, City of Vernon, California

E-22.

Docket# ER03-749, 000, New York Independent System Operator, Inc.

E-23.

Docket# EL03-11, 001, Wisvest Conneticut, LLC v. ISO New England Inc.

E-24.

Omitted

E-25.

Docket# EC03-18, 001, Athens Generating Company, L.P., Covert Generating Company, LLC, Harquahala Generating Company, LLC, Millennium Power Partners, L.P. and New GenHoldings

Other#s EC03-18, 000, Athens Generating Company, L.P., Covert Generating Company, LLC, Harquahala Generating Company, LLC, Millennium Power Partners, L.P. and New GenHoldings

E-26.

Docket# TX03-1, 000, Mirant Las Vegas, LLC, Duke Energy Moapa, LLC, Gen West, LLC, Las Vegas Cogeneration II, LLC, and Reliant Energy Bighorn, LLC

Other#s TX03-1, 001, Mirant Las Vegas, LLC, Duke Energy Moapa, LLC, Gen West, LLC, Las Vegas Cogeneration II, LLC, and Reliant Energy Bighorn, LLC

E-27.

Docket# EF00-2012, 000, Bonneville Power Administration

Other#s

EF00-2012, 001, Bonneville Power Administration

E-28.

Docket# EL02-65, 009, Alliance Companies; Ameren Services Company on behalf of: Union Electric Company and Central Illinois Public Service Company; American Electric Power Service Corporation on behalf of: Appalachian Power Company, Columbus Southern Power Company, Indiana Michigan Power Company, Kentucky Power Company, Kingsport Power Company, Ohio Power Company and Wheeling Power Company; Dayton Power and Light Company; Exelon Corporation on behalf of: Commonwealth Edison Company and Commonwealth Edison Company of Indiana, Inc.; FirstEnergy Corporation on behalf of: American Transmission Systems, Inc., Cleveland Electric Illuminating Power Company, Ohio Edison Company, Pennsylvania Power Company and Toledo Edison Company; Illinois Power Company; Northern Indiana Public Service Company and National Grid USA

Other#s RT01-88, 022, Alliance Companies, Ameren Services Company on behalf of: Union Electric Company and Central Illinois Public Service Company; American Electric Power Service Corporation on behalf of: Appalachian Power Company, Columbus Southern Power Company, Indiana Michigan Power Company, Kentucky Power Company, Kingsport Power Company, Ohio Power Company and Wheeling Power Company; Consumers Energy Company and Michigan Electric Transmission Company; Dayton Power and Light Company; Exelon Corporation on behalf of: Commonwealth Edison Company and Commonwealth Edison Company of Indiana, Inc.; FirstEnergy Corporation on behalf of: American Transmission Systems, Inc., Cleveland Electric Illuminating Power Company, Ohio Edison Company, Pennsylvania Power Company and Toledo Edison Company; Illinois Power Company; Northern Indiana Public Service Company; Virginia Electric and Power Company; Alliance Companies; Ameren Services Company on behalf of: Union Electric Company and Central Illinois Public Service Company; American Electric Power Service Corporation on behalf of: Appalachian Power Company, Columbus Southern Power Company, Indiana Michigan Power Company, Kentucky Power Company, Kingsport Power Company, Ohio Power Company and Wheeling Power Company; Consumers Energy Company and the Michigan Electric Transmission Company; Dayton Power and Light Company; Detroit Edison Company and International Transmission Company

ER01-2992, 004, Exelon Corporation on behalf of: Commonwealth Edison Company and Commonwealth Edison Company of Indiana, Inc.; FirstEnergy Corporation on behalf of American Transmission Systems, Inc., Cleveland Electric Illuminating Power Company, Ohio Edison Company, Pennsylvania Power Company and Toledo Edison Company

RT01-84, 005, Illinois Power Company

ER01-123, 009, Illinois Power Company

ER01-2999, 004, Illinois Power Company

RT01-26, 005, Northern Indiana Public Service Company

ER01-2993, 004, Virginia Electric and Power Company

RT01-37, 005, Dayton Power and Light Company

ER01-2997, 004, Dayton Power and Light Company

ER01-2995, 005, American Electric Power Service Corporation on behalf of: Appalachian Power Company, Columbus Southern Power Company, Indiana Michigan Power Company, Kentucky Power Company, Kingsport Power Company, Ohio Power Company and Wheeling Power Company

EL02-111, 001, Midwest Independent System Operator; PJM Interconnection, L.L.C. and all Transmission Owners (including the Entities identified below) Union Electric Company; Central Illinois Public Service Company; Appalachian Power Company; Columbus Southern Power Company; Indiana Michigan Power Company; Kentucky Power Company; Kingsport Power Company; Ohio Power Company; Wheeling Power Company; Michigan Electric Transmission Company; Dayton Power and Light Company; Commonwealth Edison Company; Commonwealth Edison Company of Indiana, Inc.; American Transmission Systems, Inc.; Illinois Power Company; Northern Indiana Public Service Company; Virginia Electric and Power Company; IES Utilities, Inc.; Interstate Power Company; Aquila, Inc. (Formerly UtiliCorp United, Inc.), PSI Energy, Inc.; Union Light Heat & Power Company; Dairyland Power Cooperative; Great River Energy; Hoosier Energy Rural Electric Cooperative; Indiana Municipal Power Agency; Indianapolis Power & Light Company; Louisville Gas & Electric Company; Kentucky Utilities Company; Lincoln Electric (Neb.) System; Minnesota Power, Inc. and its subsidiary Superior Water, Light & Power Company; Montana-Dakota Utilities; Northwestern Wisconsin Electric Company; Otter Tail Power Company; Southern Illinois Power Cooperative; Southern Indiana Gas & Electric Cooperative; Southern Minnesota Municipal Power Agency; Sunflower Electric Power Corporation; Wabash Valley Power Association, Inc.; Wolverine Power Supply Cooperative; International Transmission Company; Alliant Energy West; Xcel Energy Services, Inc.; MidAmerican Energy Company; Corn Belt Power Corporation; Allegheny Electric Cooperative, Inc.; Atlantic City Electric Company; Baltimore Gas & Electric Company; Delmarva Power & Light Company; Jersey Central Power & Light Company; Metropolitan Edison Company; PECO Energy Company; Pennsylvania Electric Company; PPL Electric Utilities Corporation; Potomac Electric Power Company; UGI Utilities, Inc.; Allegheny Power; Carolina Power & Light Company; Central Power & Light Company; Conectiv; Detroit Edison Company; Duke Power Company; Florida Power & Light Company; GPU Energy; Northeast Utilities Service Company; Ohio Power Company; Old Dominion Electric Cooperative; PECO Energy Company; Public Service Company of Colorado; Public Service Electric & Gas Company; Public Service Company of Oklahoma; Rockland Electric Company; South Carolina Electric & Gas Company; Southwestern Electric Power Company; Cincinnati Gas & Electric Company; Missouri Public Service; WestPlains Energy; Cleco Corporation; Kansas Power & Light Company; OG&E Electric Services; Southwestern Public Service Company; Empire District Electric Company; Western Resources and Kansas Gas & Electric

E-29.

Docket# ER02-2222, 002, Southwest Power Pool, Inc.

Other#s ER02-2223, 002, Southwest Power Pool, Inc.

ER02-2224, 002, Southwest Power Pool, Inc.

ER02-2225, 002, Southwest Power Pool, Inc.

ER02-2226, 002, Southwest Power Pool, Inc.

E-30.

Docket# ER97-2353, 008, New York State Electric & Gas Corporation

Other#s ER97-2353, 009, New York State Electric & Gas Corporation

ER97-2353, 010, New York State Electric & Gas Corporation

ER97-2353, 011, New York State Electric & Gas Corporation

E-31.

Omitted

E-32.

Docket# ER03-338, 002, Southern California Edison Company

E-33.

Omitted

E-34.

Omitted

E-35.

Docket# ER03-221, 001, El Paso Electric Company

E-36.

Docket# ER02-2014, 005, Entergy Services, Inc.

Other#s ER02-2014, 008, Entergy Services, Inc.

ER02-2014, 009, Entergy Services, Inc.

E-37.

Docket# EL02-86, Exelon Generation Company L.L.C. v. Southwest Power Pool, Inc.

E-38.

Docket# ER02-1420, 007, Midwest Independent Transmission System Operator, Inc.

Other#s ER02-1420, 008, Midwest Independent Transmission System Operator, Inc.

E-39.

Omitted

E-40.

Omitted

E-41.

Omitted

E-42.

Docket# EL03-121, 000, Sagebrush

E-43.

Docket# EL02-126, 000, City of Corona, California v. Southern

California Edison Company

E-44.

Omitted

E-45.

Omitted

E-46.

Omitted

E-47.

Docket# EL01-22, 002, Idaho Power Company

E-48.

Docket# ER02-2001, 001, Electric Quarterly Reports—Lyon Rural

Electric Cooperative

E-49.

Docket# ER02-2001, 002, Electric Quarterly Reports—Sussex Rural

Electric Cooperative

E-50.

Omitted

E-51.

Docket# ER03-386, 000, Southern Company Services, Inc.

Other#s ER02-2015, 001, Southern Company Services, Inc.

ER02-2455, 000, Southern Company Services, Inc.

ER03-386, 001, Southern Company Services, Inc.

E-52.

Docket# ER02-2361, 000, WPS Westwood Generation, LLC

Other#s ER02-2361, 001, WPS Westwood Generation, LLC

E-53.

Omitted

E-54.

Docket# EL02-101, 001, Cleco Power LLC, Dalton Utilities; Entergy Services, Inc., Georgia Transmission Corporation, JEA, MEAG Power, San Rayburn G&T Electric Cooperative, Inc., Southern Company Services, Inc. and City of Tallahassee, Florida

E-55.

Docket# ER02-2014, 007, Entergy Services, Inc.

Miscellaneous Agenda

M-1.

Reserved

Markets, Tariffs and Rates—Gas

G-1.

Docket# RP03-312, 000, Calpine Energy Services, L.P. v. Southern Natural Gas Company

G-2.

Omitted

G-3.

Omitted

G-4.

Docket# PR03-10, 000, Atmos Energy Corporation

G-5.

Docket# RP03-14, 001, Pine Needle LNG Company, LLC

G-6.

Docket# RP00-467, 002, Midwestern Gas Transmission Company

Other#s RP00-467, 003, Midwestern Gas Transmission Company

RP01-19, 002, Midwestern Gas Transmission Company

G-7.

Docket# RP02-361, 006, Gulfstream Natural Gas System, L.L.C.

G-8.

Omitted

G-9.

Docket# RP03-4, 001, Panhandle Eastern Pipe Line Company

G-10.

Docket# RP01-416, 001, Northwest Pipeline Corporation

G-11.

Docket# OR92-8, 020, SFPP, L.P.

Other#s OR92-8, 021, SFPP, L.P.

OR92-8, 022, SFPP, L.P.

G-12.

Docket# RP00-474, 001, Maritimes & Northeast Pipeline, L.L.C.

Other#s RP00-474, 002, Maritimes & Northeast Pipeline, L.L.C.

RP01-17, 004, Maritimes & Northeast Pipeline, L.L.C.

RP01-17, 005, Maritimes & Northeast Pipeline, L.L.C.

RP03-174, 000, Maritimes & Northeast Pipeline, L.L.C.

G-13.

Docket# RP00-459, 001, TransColorado Gas Transmission Company

Other#s RP00-459, 002, TransColorado Gas Transmission Company

RP01-32, 001, TransColorado Gas Transmission Company

RP01-32, 002, TransColorado Gas Transmission Company

RP01-477, 005, TransColorado Gas Transmission Company

RP02-5, 002, TransColorado Gas Transmission Company

RP02-5, 003, TransColorado Gas Transmission Company

G-14.

Docket# RP03-13, 002, Transcontinental Gas Pipe Line Corporation

Other#s RP03-13, 001, Transcontinental Gas Pipe Line Corporation

G-15.

Docket# RP02-153, 002, Horizon Pipeline Company, L.L.C.

Other#s RP02-153, 003, Horizon Pipeline Company, L.L.C.

G-16.

Docket# RP03-219, 003, Discovery Gas Transmission LLC

Other#s MG03-2, 000, Discovery Gas Transmission LLC

G-17.

Docket# GT02-35, 003, Tennessee Gas Pipeline Company

Other#s GT02-35, 004, Tennessee Gas Pipeline Company

G-18.

Docket# GT02-38, 005, Northern Natural Gas Company

Other#s GT02-38, 004, Northern Natural Gas Company

G-19.

Docket# RP00-468, 008, Texas Eastern Transmission, LP

Other#s RP00-468, 007, Texas Eastern Transmission, LP

RP00-468, 009, Texas Eastern Transmission, LP

RP00-468, 010, Texas Eastern Transmission, LP

RP01-25, 006, Texas Eastern Transmission, LP

RP01-25, 007, Texas Eastern Transmission, LP

RP01-25, 008, Texas Eastern Transmission, LP

RP01-25, 009, Texas Eastern Transmission, LP

RP03-175, 001, Texas Eastern Transmission, LP

RP03-175, 002, Texas Eastern Transmission, LP

RP03-175, 003, Texas Eastern Transmission, LP

RP03-175, 004, Texas Eastern Transmission, LP

G-20.

Docket# RP03-197, 001, Northern Natural Gas Company

G-21.

Docket# RM03-10, 000, Amendments to Blanket Sales Certificates

G-22.

Omitted

G-23.

Docket# RP03-163, 000, Energy Development Corporation v. Columbia Gas Transmission Company and Columbia Natural Resources, Inc.

G-24.

Omitted

G-25.

Docket# RP03-473, 000, Enbridge Pipelines (KPC)

G-26.

Omitted

G-27.

Docket# RP03-243, 000, Nicole Energy Services, Inc.

Energy Projects—Hydro

H-1.

Docket# P-2552, 058, FPL Energy Maine Hydro, LLC

H-2.

Docket# P-2651, 030, Indiana Michigan Power Company

H-3.

Docket# JR00-2, 002, James M. Knott, Sr.

Other#s P-9100, 018, James M. Knott, Sr.

H-4.

Docket# P-1494, 232, Grand River Dam Authority

H-5.

Docket# P-2436, 174, Consumers Energy Company

Other#s P-2447, 166, Consumers Energy Company

P-2448, 170, Consumers Energy Company

P-2450, 145, Consumers Energy Company

P-2451, 143, Consumers Energy Company

P-2452, 150, Consumers Energy Company

P-2453, 172, Consumers Energy Company

P-2580, 200, Consumers Energy Company

P-2599, 164, Consumers Energy Company

H-6.

Omitted

Energy Projects—Certificates

C-1.

Docket# CP02-37, 000, Williston Basin Interstate Pipeline Company

Other#s CP02-37, 002, Williston Basin Interstate Pipeline Company

CP02-37, 003, Williston Basin Interstate Pipeline Company

C-2.

Docket# CP03-1, 000, El Paso Natural Gas Company

C-3.

Docket# CP03-99, 000, Norteno Pipeline Company and OKTex Pipeline Company

C-4.

Docket# CP02-420, 000, Red Lake Gas Storage, L.P.

Other#s CP02-420, 001, Red Lake Gas Storage, L.P.

CP02-421, 000, Red Lake Gas Storage, L.P.

CP02-421, 001, Red Lake Gas Storage, L.P.

CP02-422, 000, Red Lake Gas Storage, L.P.

CP02-422, 001, Red Lake Gas Storage, L.P.

C-5.

Docket# CP02-434, 000, ANR Pipeline Company

C-6.

Docket# CP03-30, 000, BP West Coast Products LLC, Atlantic Richfield Company and Intalco Aluminum Corporation

C-7.

Docket# CP02-387, 001, Petal Gas Storage, L.L.C.

C-8.

Docket# CP01-36, 001, Zia Natural Gas Company, an Operating Division of Natural Gas Processing Company

Other#s CP01-52, 001, Raton Gas Transmission Company

CP01-382, 001, Zia Natural Gas Company, an Operating Division of Natural Gas Processing Company

CP01-383, 001, Raton Gas Transmission Company

C-9.

Docket# CP02-90, 000, AES Ocean Express LLC

Other#s CP02-90, 001, AES Ocean Express LLC

CP02-91, 000, AES Ocean Express LLC

CP02-92, 000, AES Ocean Express LLC

CP02-93, 000, AES Ocean Express LLC

CP02-93, 001, AES Ocean Express LLC

Magalie R. Salas,
Secretary.

[FR Doc. 03-13823 Filed 5-29-03; 11:35 am]

BILLING CODE 6717-01-P